DEPARTMENT OF ENERGY

Federal Energy Regulatory Commission

Combined Notice of Filings

Take notice that the Commission has received the following Natural Gas Pipeline Rate and Refund Report filings:

Filings Instituting Proceedings

Docket Numbers: RP19-1337-000.

Applicants: Texas Eastern Transmission, LP.

Description: Submits tariff filing per 154.204: Negotiated Rates—MC Global 7-1-2019 Releases to be effective 7/1/2019 under RP19-1337.

Filed Date: 6/27/19.

Accession Number: 20190627-5043.

Comments Due: 5 p.m. ET 7/12/19.

Docket Numbers: RP19-1338-000.

Applicants: Rockies Express Pipeline LLC.

Description: Submits tariff filing per 154.204: Neg Rate 2019-06-27 CP Castleton and Twin Eagle (E2W) to be effective 07/1/2019.

Filed Date: 6/27/19.

Accession Number: 20190627-5096.

Comments Due: 5 p.m. ET 7/12/19.

Docket Numbers: RP19-1368-000.

Applicants: Iroquois Gas Transmission System, L.P.

Description: § 4(d) Rate Filing: 070219 Negotiated Rates—Spotlight Energy, LLC R-77250-6 to be effective 9/1/2019.

Filed Date: 7/2/19.

Accession Number: 20190702-5070.

Comments Due: 5 p.m. ET 7/15/19.

Docket Numbers: RP19-1369-000.

Applicants: Iroquois Gas Transmission System, L.P.

Description: § 4(d) Rate Filing: 070219 Negotiated Rates—Tenaska Marketing Ventures R-2835-20 to be effective 9/1/2019.

Filed Date: 7/2/19.

Accession Number: 20190702-5071.

Comments Due: 5 p.m. ET 7/15/19.

Docket Numbers: RP19-1372-000.

Applicants: Dominion Energy Cove Point LNG, LP.

Description: Compliance filing DECP—2019 Penalty Revenue Distribution to be effective N/A.

Filed Date: 7/2/19.

Accession Number: 20190702-5096.

Comments Due: 5 p.m. ET 7/15/19.

Docket Numbers: RP19-1373-000.

Applicants: Dominion Energy Transmission, Inc.

Description: Compliance filing DETI—2019 Overrun and Penalty Revenue Distribution to be effective N/A.

Filed Date: 7/2/19.

Accession Number: 20190702-5112.

Comments Due: 5 p.m. ET 7/15/19.

Docket Numbers: RP19-1374-000.

Applicants: Northern Natural Gas Company.

Description: § 4(d) Rate Filing: 20170702 Negotiated Rate to be effective 7/3/2019.

Filed Date: 7/2/19.

Accession Number: 20190702-5202.

Comments Due: 5 p.m. ET 7/15/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 3, 2019.
Kimberly D. Bose,
Secretary.

[FR Doc. 2019-14671 Filed 7-9-19; 8:45 am]

BILLING CODE 6717-01-P